DEPARTMENT OF DEFENSE

Department of the Air Force

[Docket ID: USAF-2008-0041]

Privacy Act of 1974; System of Records

AGENCY: Department of the Air Force, DoD.

ACTION: Notice to Add a System of Records Notice.

SUMMARY: The Department of the Air Force proposes to add a system of records notice to its inventory of records systems subject to the Privacy Act of 1974 (5 U.S.C. 552a), as amended.

DATES: The actions will be effective on January 5, 2009 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on November 18, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 25, 2008.
Morgan E. Frazier,
Alternate OSD Federal Register Liaison Officer, Department of Defense.

F032 AFCES A

System Name:

Civil Engineer System-Fire Department Records.

System Location:

The Fire Departments or the Base Network Control Centers at Air Force installations worldwide. Official mailing addresses are published as an appendix to the Air Force's compilation of systems of records notices.

Categories of individuals covered by the system:

Individuals involved in the fire operations to include active duty U.S. Air Force, civilians and contractors personnel.

Categories of records in the system:

Biographical, duty and background information including but not limited to individual's name, grade/rank, Social Security Number (SSN), date and place of birth, telephone number, line badge information, and certifications.

Authority for maintenance of the system:

10 U.S.C. 8013, Secretary of the Air Force; Department of Defense (DoD) Instruction (DoDI) 6055.06, DoD Fire and Emergency Services Program; Air Force Policy Directive 32-20, Fire Emergency Services; and E.O. 9397 (SSN).

Purpose(s):

To support the resources, equipment, and personnel that will be dispatched in fire emergency operations. In addition, it will provide fire prevention and protection, fire fighting, rescue, and Hazardous Materials (HazMat) response capabilities to prevent or minimize injury, loss of life, and damage to property and the environment. The fire prevention program consisting of fire safety education, inspections, enforcement and facility design review. This will ensure an early intervention at emergency events by occupants, operators, and automatic fire protection systems.

Routine uses of records maintained in the system, including categories of users and the purposes of such uses:

In addition to those disclosures generally permitted under 5 U.S.C. 552a(b) of the Privacy Act of 1974, these records or information contained therein may specifically be disclosed outside the DoD as a routine use pursuant to 5 U.S.C. 552a(b)(3) as follows:

The DoD `Blanket Routine Uses' published at the beginning of the Air Force's compilation of record system notices apply to this system.

Policies and practices for storing, retrieving, accessing, retaining, and disposing of records in the system:

Storage:

Electronic storage media.

Retrievability:

Individual's name and Social Security Number (SSN).

Safeguards:

Access to records is limited to persons responsible for servicing the record in performance of their official duties and who are properly screened and cleared for need-to-know. Access to the application is restricted by passwords which are changed periodically.

Retention and disposal:

Retained for 30 years or until no longer needed and then deleted from the database.

System manager(s) and address:

ACES/IWIMS Program Manager, HQ AFCESA/CEOI, 139 Barnes Drive, Suite 1, Tyndall AFB, FL 32403-5319.

Notification procedure:

Individuals seeking to determine whether information about themselves is contained in this system should address written inquiries to the ACES/IWIMS Program Manager, HQ AFCESA/CEOI, 139 Barnes Drive, Suite 1, Tyndall AFB, FL 32403-5319.

Written requests will contain individual's name, Social Security Number (SSN), office or organization where currently assigned, if applicable, current address, and telephone number.

Record access procedures:

Individuals seeking to determine whether information about themselves is contained in this system should address written inquiries to the ACES/IWIMS Program Manager, HQ AFCESA/CEOI, 139 Barnes Drive, Suite 1, Tyndall AFB, FL 32403-5319.

Written requests will contain individual's name, Social Security Number (SSN), office or organization where currently assigned, if applicable, current address, and telephone number.

Contesting record procedures:

The Air Force rules for accessing records, for contesting contents and appealing initial agency determinations are published in Air Force Instruction 33-332;32 CFR part 806b; or may be obtained from the system manager.

Record source categories:

Individual.

Exemptions claimed for the system:

None.

[FR Doc. E8-28714 Filed 12-3-08; 8:45 am]

BILLING CODE 5001-06-P